DEPARTMENT OF TRANSPORTATION

National Highway Traffic Safety Administration

49 CFR Part 541

[Docket No. NHTSA 2008-0112]

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2006 including theft rates for existing passenger motor vehicle lines manufactured in model year (MY) 2006. The preliminary theft data indicate that the vehicle theft rate for CY/MY 2006 vehicles (2.08 thefts per thousand vehicles) increased by 12.4 percent from the theft rate for CY/MY 2005 vehicles (1.85 thefts per thousand vehicles).

Publication of these data fulfills NHTSA's statutory obligation to periodically obtain accurate and timely theft data, and publish the information for review and comment.

DATES: Comments must be submitted on or before September 12, 2008.

ADDRESSES: You may submit comments [identified by Docket No. NHTSA-2008-0112 by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: For detailed instructions on submitting comments and additional information on the rulemaking process, see the Public Participation heading of the SUPPLEMENTARY INFORMATION section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov or the street address listed above. Follow the online instructions for accessing the dockets.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2006, the most recent calendar year for which data are available.

In calculating the 2006 theft rates, NHTSA followed the same procedures it used in calculating the MY 2005 theft rates. (For 2005 theft data calculations, see 73 FR 13150, March 12, 2008). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources. The 2006 theft rate for each vehicle line was calculated by dividing the number of reported thefts of MY 2006 vehicles of that line stolen during calendar year 2006, by the total number of vehicles in that line manufactured for MY 2006, as reported by manufacturers to the Environmental Protection Agency.

The preliminary 2006 theft data show an increase in the vehicle theft rate when compared to the theft rate experienced in CY/MY 2005. The preliminary theft rate for MY 2006 passenger vehicles stolen in calendar year 2006 increased to 2.08 thefts per thousand vehicles produced, an increase of 12.4 percent from the rate of 1.85 thefts per thousand vehicles experienced by MY 2005 vehicles in CY 2005. For MY 2006 vehicles, out of a total of 217 vehicle lines, 19 lines had a theft rate higher than 3.5826 per thousand vehicles, the established median theft rate for MYs 1990/1991 (See 59 FR 12400, March 16, 1994). Of the 19 vehicle lines with a theft rate higher than 3.5826, 18 are passenger car lines, one is a multipurpose passenger vehicle line, and none are light-duty truck lines.

Although this publication reflects preliminary data which may change, the agency is aware that the data does reflect a possible second year with an increase in the overall theft rate (MY/CY 2005 & 2006). In the final notice for CY/MY 2005 the agency indicated that since there was only a slight elevation, the agency was not concerned but would monitor this to see if it was a beginning of a trend. If the final data for CY/MY 2006 does show a second year of increase, especially of the magnitude indicated by this preliminary data, the agency will explore what could be causing these elevations in the theft rate. The agency welcomes any comments on this possible new trend.

In Table I, NHTSA has tentatively ranked each of the MY 2006 vehicle lines in descending order of theft rate. Public comment is sought on the accuracy of the data, including the data for the production volumes of individual vehicle lines.

Comments must not exceed 15 pages in length (49 CFR part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://DocketsInfo.dot.gov.

Authority: 49 U.S.C. 33101, 33102 and 33104; delegation of authority at 49 CFR 1.50.

Preliminary Report of Theft Rates for Model Year 2006 Passenger Motor Vehicles Stolen in Calendar Year 2006
| Manufacturer | Make/model (line) | Thefts 2006 | Production (mfr's) 2006 | 2006 Theft rate (per 1,000 vehicles produced)
1 | DAIMLERCHRYSLER | DODGE MAGNUM | 407 | 46501 | 8.7525
2 | DAIMLERCHRYSLER | DODGE CHARGER | 963 | 130892 | 7.3572
3 | DAIMLERCHRYSLER | DODGE STRATUS | 569 | 79998 | 7.1127
4 | GENERAL MOTORS | PONTIAC GRAND PRIX | 802 | 116458 | 6.8866
5 | LAMBORGHINI | MURCIELAGO | 1 | 159 | 6.2893
6 | GENERAL MOTORS | CHEVROLET MONTE CARLO | 239 | 38136 | 6.2670
7 | ROLLS ROYCE | PHANTOM | 2 | 339 | 5.8997
8 | DAIMLERCHRYSLER | CHRYSLER SEBRING | 250 | 43115 | 5.7984
9 | DAIMLERCHRYSLER | CHRYSLER SEBRING CONVERTIBLE | 150 | 27685 | 5.4181
10 | HONDA | ACURA RSX | 69 | 15111 | 4.5662
11 | DAIMLERCHRYSLER | CHRYSLER 300 | 991 | 217754 | 4.5510
12 | GENERAL MOTORS | PONTIAC G6 | 716 | 170394 | 4.2020
13 | MITSUBISHI | GALANT | 118 | 28101 | 4.1991
14 | GENERAL MOTORS | CHEVROLET MALIBU | 740 | 177262 | 4.1746
15 | SUZUKI | FORENZA | 175 | 42550 | 4.1128
16 | FORD MOTOR CO | FORD TAURUS | 638 | 156882 | 4.0668
17 | GENERAL MOTORS | CHEVROLET IMPALA | 1044 | 262823 | 3.9723
18 | GENERAL MOTORS | CHEVROLET COBALT | 844 | 229576 | 3.6763
19 | NISSAN | SENTRA | 500 | 136351 | 3.6670
20 | KIA | AMANTI | 29 | 8133 | 3.5657
21 | HYUNDAI | SONATA | 605 | 170783 | 3.5425
22 | MERCEDES-BENZ | 215 (CL-CLASS) | 79 | 22411 | 3.5251
23 | MITSUBISHI | ENDEAVOR | 51 | 14546 | 3.5061
24 | SUZUKI | VERONA | 7 | 2000 | 3.5000
25 | HONDA | HONDA CIVIC | 362 | 103981 | 3.4814
26 | DAIMLERCHRYSLER | CHRYSLER PT CRUISER | 457 | 131960 | 3.4632
27 | DAIMLERCHRYSLER | JEEP GRAND CHEROKEE | 303 | 88383 | 3.4283
28 | BMW | M3 | 15 | 4394 | 3.4137
29 | FORD MOTOR CO | LINCOLN LS | 29 | 8499 | 3.4122
30 | NISSAN | MAXIMA | 210 | 63663 | 3.2986
31 | NISSAN | 350Z | 100 | 30640 | 3.2637
32 | FORD MOTOR CO | FORD FOCUS | 436 | 135929 | 3.2076
33 | FORD MOTOR CO | FORD CROWN VICTORIA | 35 | 10955 | 3.1949
34 | HYUNDAI | ACCENT | 59 | 18685 | 3.1576
35 | KIA | OPTIMA | 143 | 45859 | 3.1183
36 | MAZDA | 6 | 190 | 67327 | 2.8220
37 | FORD MOTOR CO | FORD MUSTANG | 431 | 153977 | 2.7991
38 | SUZUKI | RENO | 22 | 7900 | 2.7848
39 | MITSUBISHI | LANCER | 121 | 43750 | 2.7657
40 | GENERAL MOTORS | CHEVROLET AVEO | 142 | 51353 | 2.7652
41 | BMW | 7 | 77 | 28012 | 2.7488
42 | SUBARU | LEGACY/OUTBACK | 59 | 21696 | 2.7194
43 | DAIMLERCHRYSLER | CHRYSLER PACIFICA | 224 | 82451 | 2.7168
44 | MITSUBISHI | ECLIPSE | 79 | 29582 | 2.6705
45 | KIA | RIO | 91 | 34103 | 2.6684
46 | GENERAL MOTORS | CADILLAC DTS | 173 | 65335 | 2.6479
47 | BMW | M5 | 11 | 4309 | 2.5528
48 | GENERAL MOTORS | CHEVROLET TRAILBLAZER | 373 | 148522 | 2.5114
49 | FORD MOTOR CO | LINCOLN TOWN CAR | 97 | 40317 | 2.4059
50 | TOYOTA | SCION TC | 189 | 80576 | 2.3456
51 | GENERAL MOTORS | CHEVROLET HHR | 267 | 113967 | 2.3428
52 | KIA | SPECTRA | 184 | 79152 | 2.3246
53 | TOYOTA | LEXUS LS | 40 | 17220 | 2.3229
54 | SUZUKI | VITARA/GRAND VITARA | 107 | 46223 | 2.3149
55 | GENERAL MOTORS | CADILLAC CTS | 125 | 55066 | 2.2700
56 | GENERAL MOTORS | BUICK RAINIER | 26 | 11503 | 2.2603
57 | NISSAN | ALTIMA | 648 | 294015 | 2.2040
58 | ISUZU | I SERIES PICKUP | 10 | 4546 | 2.1997
59 | BMW | 6 | 17 | 7893 | 2.1538
60 | TOYOTA | LEXUS SC | 15 | 7008 | 2.1404
61 | LOTUS | ELISE | 3 | 1424 | 2.1067
62 | GENERAL MOTORS | PONTIAC MONTANA VAN | 44 | 20984 | 2.0968
63 | GENERAL MOTORS | PONTIAC GTO | 29 | 13857 | 2.0928
64 | KIA | SORENTO | 116 | 55515 | 2.0895
65 | TOYOTA | TOYOTA CAMRY/SOLARA | 517 | 252690 | 2.0460
66 | JAGUAR | S-TYPE | 14 | 6855 | 2.0423
67 | AUDI | A8 | 11 | 5404 | 2.0355
68 | BMW | M6 | 2 | 990 | 2.0202
69 | DAIMLERCHRYSLER | JEEP WRANGLER | 155 | 77976 | 1.9878
70 | GENERAL MOTORS | CHEVROLET UPLANDER VAN | 122 | 62521 | 1.9513
71 | TOYOTA | TOYOTA COROLLA | 653 | 336871 | 1.9384
72 | GENERAL MOTORS | SATURN ION | 186 | 96227 | 1.9329
73 | GENERAL MOTORS | BUICK RENDEZVOUS | 96 | 50649 | 1.8954
74 | VOLVO | S80 | 14 | 7567 | 1.8501
75 | DAIMLERCHRYSLER | JEEP LIBERTY | 266 | 146897 | 1.8108
76 | NISSAN | INFINITI G35 | 107 | 59442 | 1.8001
77 | TOYOTA | LEXUS GS | 92 | 51221 | 1.7961
78 | HYUNDAI | TIBURON | 41 | 22959 | 1.7858
79 | NISSAN | INFINITI FX45 | 3 | 1693 | 1.7720
80 | GENERAL MOTORS | CADILLAC XLR | 7 | 3963 | 1.7663
81 | HONDA | HONDA S2000 | 10 | 5666 | 1.7649
82 | AUDI | A6/A6 QUATTRO/S6/S6 AVANT | 32 | 18143 | 1.7638
83 | DAIMLERCHRYSLER | DODGE CARAVAN/GRAND CARAVAN | 416 | 235960 | 1.7630
84 | HYUNDAI | ELANTRA | 174 | 99126 | 1.7553
85 | FORD MOTOR CO | FORD FUSION | 217 | 125335 | 1.7314
86 | MAZDA | 5 | 35 | 20328 | 1.7218
87 | JAGUAR | X-TYPE | 10 | 5994 | 1.6683
88 | NISSAN | QUEST VAN | 42 | 25378 | 1.6550
89 | FORD MOTOR CO | FORD FREESTAR VAN | 84 | 51143 | 1.6425
90 | MERCEDES-BENZ | 203 (C-CLASS) | 89 | 54492 | 1.6333
91 | FORD MOTOR CO | FORD FIVE HUNDRED | 134 | 83031 | 1.6139
92 | HUMMER | H3 | 116 | 72227 | 1.6060
93 | MAZDA | RX-8 | 10 | 6415 | 1.5588
94 | MERCEDES-BENZ | 220 (S-CLASS) | 22 | 14472 | 1.5202
95 | GENERAL MOTORS | PONTIAC VIBE | 77 | 51168 | 1.5048
96 | FORD MOTOR CO | MERCURY MOUNTAINEER | 46 | 30676 | 1.4995
97 | NISSAN | FRONTIER PICKUP | 112 | 75112 | 1.4911
98 | TOYOTA | SCION XB | 125 | 87219 | 1.4332
99 | GENERAL MOTORS | BUICK LACROSSE/ALLURE | 107 | 76029 | 1.4074
100 | JAGUAR | XKR | 1 | 713 | 1.4025
101 | TOYOTA | TOYOTA TUNDRA PICKUP | 36 | 25764 | 1.3973
102 | GENERAL MOTORS | GMC ENVOY | 68 | 48745 | 1.3950
103 | VOLVO | S60 | 30 | 21734 | 1.3803
104 | GENERAL MOTORS | CHEVROLET EQUINOX | 170 | 124123 | 1.3696
105 | JAGUAR | XK8 | 2 | 1463 | 1.3671
106 | VOLKSWAGEN | PASSAT | 85 | 63019 | 1.3488
107 | NISSAN | MURANO | 105 | 77852 | 1.3487
108 | NISSAN | PATHFINDER | 100 | 74219 | 1.3474
109 | BMW | 5 | 62 | 46563 | 1.3315
110 | FORD MOTOR CO | FORD RANGER PICKUP | 110 | 83737 | 1.3136
111 | MAZDA | 3 | 125 | 95420 | 1.3100
112 | NISSAN | XTERRA | 78 | 59988 | 1.3003
113 | MAZDA | MPV VAN | 13 | 10054 | 1.2930
114 | FORD MOTOR CO | MERCURY GRAND MARQUIS | 64 | 49578 | 1.2909
115 | VOLKSWAGEN | GOLF/RABBIT/GTI | 24 | 18806 | 1.2762
116 | MITSUBISHI | OUTLANDER | 13 | 10190 | 1.2758
117 | FORD MOTOR CO | FORD ESCAPE | 194 | 152125 | 1.2753
118 | TOYOTA | TOYOTA MATRIX | 70 | 56291 | 1.2435
119 | GENERAL MOTORS | CHEVROLET COLORADO PICKUP | 129 | 104675 | 1.2324
120 | HONDA | HONDA ACCORD | 391 | 328780 | 1.1892
121 | TOYOTA | TOYOTA TACOMA PICKUP | 221 | 195700 | 1.1293
122 | HONDA | ACURA TSX | 44 | 40480 | 1.0870
123 | GENERAL MOTORS | GMC CANYON PICKUP | 29 | 26744 | 1.0844
124 | GENERAL MOTORS | SATURN VUE | 103 | 95178 | 1.0822
125 | AUDI | A3/A3 QUATTRO | 12 | 11162 | 1.0751
126 | MAZDA | TRIBUTE | 35 | 33565 | 1.0428
127 | TOYOTA | LEXUS ES | 32 | 30735 | 1.0412
128 | MERCEDES-BENZ | 129 (SL-CLASS) | 7 | 6731 | 1.0400
129 | FORD MOTOR CO | FORD FREESTYLE | 57 | 54980 | 1.0367
130 | NISSAN | INFINITI M35/M45 | 42 | 40627 | 1.0338
131 | TOYOTA | TOYOTA 4RUNNER | 108 | 104758 | 1.0309
132 | AUDI | A4/A4 QUATTRO/S4/S4 AVANT | 49 | 48023 | 1.0203
133 | FORD MOTOR CO | MERCURY MILAN | 35 | 34506 | 1.0143
134 | DAIMLERCHRYSLER | CHRYSLER TOWN & COUNTRY | 177 | 175760 | 1.0071
135 | TOYOTA | SCION XA | 50 | 49664 | 1.0068
136 | MERCEDES-BENZ | 208 (CLK-CLASS) | 17 | 17150 | 0.9913
137 | GENERAL MOTORS | PONTIAC TORRENT | 48 | 48750 | 0.9846
138 | NISSAN | INFINITI FX35 | 17 | 17326 | 0.9812
139 | SUBARU | IMPREZA | 41 | 41987 | 0.9765
140 | SUZUKI | AERIO | 17 | 17417 | 0.9761
141 | HYUNDAI | SANTA FE | 32 | 32802 | 0.9756
142 | HONDA | ACURA 3.2 TL | 74 | 77849 | 0.9506
143 | GENERAL MOTORS | CHEVROLET CORVETTE | 30 | 31595 | 0.9495
144 | GENERAL MOTORS | BUICK LUCERNE | 81 | 85961 | 0.9423
145 | HYUNDAI | TUCSON | 52 | 55399 | 0.9386
146 | TOYOTA | TOYOTA AVALON | 90 | 97247 | 0.9255
147 | ASTON MARTIN | DB9 | 1 | 1085 | 0.9217
148 | GENERAL MOTORS | CADILLAC FUNERAL COACH/HEARSE | 1 | 1096 | 0.9124
149 | MERCEDES-BENZ | 210 (E-CLASS) | 55 | 61563 | 0.8934
150 | VOLVO | V50 | 4 | 4480 | 0.8929
151 | VOLKSWAGEN | JETTA | 108 | 123317 | 0.8758
152 | FORD MOTOR CO | MERCURY MONTEGO | 17 | 19464 | 0.8734
153 | JAGUAR | XJ8/XJ8L | 3 | 3444 | 0.8711
154 | TOYOTA | LEXUS IS | 43 | 49960 | 0.8607
155 | BMW | 3 | 127 | 151673 | 0.8373
156 | FORD MOTOR CO | LINCOLN ZEPHYR | 26 | 31265 | 0.8316
157 | TOYOTA | TOYOTA RAV4 | 94 | 114912 | 0.8180
158 | VOLVO | S40 | 20 | 24505 | 0.8162
159 | ISUZU | ASCENDER | 3 | 3857 | 0.7778
160 | HYUNDAI | AZERA | 19 | 24492 | 0.7758
161 | PORSCHE | BOXSTER | 4 | 5314 | 0.7527
162 | PORSCHE | CAYMAN | 4 | 5360 | 0.7463
163 | SUBARU | B9 TRIBECA | 22 | 30027 | 0.7327
164 | VOLKSWAGEN | BENTLEY CONTINENTAL | 3 | 4097 | 0.7322
165 | VOLVO | XC90 | 24 | 32962 | 0.7281
166 | KIA | SPORTAGE | 30 | 42832 | 0.7004
167 | FORD MOTOR CO | MERCURY MARINER | 21 | 30137 | 0.6968
168 | GENERAL MOTORS | PONTIAC SOLSTICE | 13 | 18748 | 0.6934
169 | VOLKSWAGEN | NEW BEETLE | 27 | 41361 | 0.6528
170 | HONDA | HONDA ELEMENT | 29 | 45132 | 0.6426
171 | GENERAL MOTORS | CADILLAC STS | 20 | 31368 | 0.6376
172 | BMW | Z4/M | 7 | 10981 | 0.6375
173 | TOYOTA | TOYOTA SIENNA VAN | 120 | 192771 | 0.6225
174 | TOYOTA | LEXUS RX | 48 | 77147 | 0.6222
175 | DAIMLERCHRYSLER | DODGE VIPER | 1 | 1630 | 0.6135
176 | PORSCHE | 911 | 8 | 13407 | 0.5967
177 | SAAB | 9-2X | 1 | 1731 | 0.5777
178 | KIA | SEDONA VAN | 30 | 52064 | 0.5762
179 | MITSUBISHI | MONTERO | 1 | 1778 | 0.5624
180 | TOYOTA | TOYOTA HIGHLANDER | 96 | 176213 | 0.5448
181 | BMW | X3 | 15 | 27743 | 0.5407
182 | MAZDA | MX-5 MIATA | 11 | 20688 | 0.5317
183 | SUBARU | FORESTER | 28 | 54405 | 0.5147
184 | FORD MOTOR CO | MERCURY MONTEREY VAN | 2 | 4017 | 0.4979
185 | HONDA | HONDA PILOT | 73 | 147629 | 0.4945
186 | SAAB | 9-3 | 11 | 22542 | 0.4880
187 | HONDA | ACURA 3.5 RL | 6 | 12556 | 0.4779
188 | VOLVO | V70 | 3 | 6355 | 0.4721
189 | HONDA | HONDA CR-V | 70 | 149659 | 0.4677
190 | VOLVO | XC70 | 6 | 12895 | 0.4653
191 | GENERAL MOTORS | SATURN RELAY | 2 | 4935 | 0.4053
192 | HONDA | HONDA ODYSSEY VAN | 75 | 192364 | 0.3899
193 | HONDA | ACURA MDX | 20 | 51380 | 0.3893
194 | BMW | MINI COOPER | 17 | 51271 | 0.3316
195 | SUBARU | BAJA | 2 | 7498 | 0.2667
196 | MAZDA | B SERIES PICKUP | 1 | 4229 | 0.2365
197 | GENERAL MOTORS | BUICK TERRAZA VAN | 3 | 12767 | 0.2350
198 | DAIMLERCHRYSLER | CHRYSLER CROSSFIRE | 1 | 6186 | 0.1617
199 | TOYOTA | TOYOTA PRIUS | 14 | 87310 | 0.1603
200 | MERCEDES-BENZ | 170 (SLK-CLASS) | 2 | 13475 | 0.1484
201 | SUBARU | OUTBACK | 5 | 57806 | 0.0865
202 | ASTON MARTIN | VANQUISH | 0 | 467 | 0.0000
224 | ASTON MARTIN | VANTAGE | 0 | 161 | 0.0000
203 | AUDI | TT | 0 | 1299 | 0.0000
223 | BUGATTI | VEYRON | 0 | 17 | 0.0000
204 | FERRARI | MARANELLO/F1 | 0 | 1392 | 0.0000
220 | FORD MOTOR CO | FORD GT | 0 | 1729 | 0.0000
205 | GENERAL MOTORS | CADILLAC LIMOUSINE | 0 | 922 | 0.0000
206 | HONDA | HONDA INSIGHT | 0 | 803 | 0.0000
207 | JAGUAR | VANDEN PLAS/SUPER V8 | 0 | 403 | 0.0000
208 | JAGUAR | XJR | 0 | 307 | 0.0000
221 | JAGUAR | VANDEN PLAS/SUPER V8 | 0 | 1358 | 0.0000
219 | LAMBORGHINI | GALLARDO | 0 | 392 | 0.0000
209 | MASERATI | GRANSPORT | 0 | 51 | 0.0000
210 | MASERATI | QUATTROPORTE | 0 | 1609 | 0.0000
211 | MASERATI | SPYDER/F1 | 0 | 777 | 0.0000
212 | NISSAN | INFINITI Q45 | 0 | 140 | 0.0000
214 | SAAB | 9-5 | 0 | 11620 | 0.0000
215 | SAAB | 9-7X | 0 | 5484 | 0.0000
222 | SALEEN | S7 | 0 | 16 | 0.0000
216 | SPYKER | C8 | 0 | 13 | 0.0000
218 | TOYOTA | TOYOTA YARIS | 0 | 2571 | 0.0000
213 | VOLKSWAGEN | BENTLEY ARNAGE | 0 | 228 | 0.0000
217 | VOLKSWAGEN | PHAETON | 0 | 259 | 0.0000

Stephen R. Kratzke,
Associate Administrator for Rulemaking.

[FR Doc. E8-15913 Filed 7-11-08; 8:45 am]

BILLING CODE 4910-59-P